DEPARTMENT OF THE INTERIOR

Office of the Secretary

Privacy Act of 1974; Amendment of Existing Systems of Records

AGENCY: Office of the Secretary, Department of the Interior.

ACTION: Proposed amendment of existing systems of records.

SUMMARY: In accordance with the Privacy Act of 1974 (5 U.S.C. 552a), the Office of the Secretary of the Department of the Interior is issuing public notice of its intent to amend an existing Privacy Act system of records notice, Passport and Visa Records, OS-52. The revisions will update the categories of records kept, the manner in which the physical records are stored, the methods of securing the records, the system location, and the system manager. The system number is also being changed from OS-52 to DOI-52.

DATES: Comments must be received by August 25, 2009.

ADDRESSES: Any persons interested in commenting on these proposed amendments to an existing system of records may do so by submitting comments in writing to the Chief, Security Services Branch, U.S. Department of the Interior, 1849 C Street, NW., Washington, DC 20240. Comments may also be submitted by fax to (202) 208-7610. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Chief, Security Services Branch, U.S. Department of the Interior, 1849 C Street, NW., Washington, DC 20240.

SUPPLEMENTARY INFORMATION: The Office of the Secretary is proposing to renumber the former Passport and Visa Records, OS-52, to Passport and Visa Records, DOI-52, to more accurately reflect the broad scope of the system within the Department, because it contains records from most of the bureaus of the Department. Additionally, several other sections of the notice are being updated. The category of records will be expanded to include application materials for visas and passports and similar supplementary materials, as well as internal electronic files housing such information for tracking and work purposes. There is an updated description of the type of cabinet or safe housing the physical records. Additional information is provided on the security of the system, and system owner name and location are being updated. Comments received within 40 days of the publication in the Federal Register will be considered. The system changes will be effective as proposed at the end of the comment period unless comments are received which would require a contrary determination. The Department will publish a revised notice if changes are made based upon a review of comments received.

Dated: July 8, 2009.
Steve T. Hargrave,
Chief, Security Services Branch, Office of the Secretary.

System Name: Passport and Visa Records, DOI-52.

System Locations:

Data covered by this system are maintained at one of the following locations: U.S. Department of the Interior, Security Services Branch, 1849 C Street, NW., Washington, DC 20240; Bureau of Reclamation, Native American and International Office, 1849 C Street, NW., MS-7069-MIB, 96-43100, Washington, DC 20240; U.S. Geological Survey, International Programs Office, 12201 Sunrise Valley Drive, MS 917, Reston, VA 20192.

Additionally, records may be stored temporarily in local offices supervising employees with such passports who need access to such records. However, such storage will be temporary, and the three specific offices above are the permanent storage locations for passports in the custody of the Department of the Interior.

Categories of Records in the System:

Passports and visas, related application materials, and internal electronic tracking or work management files and their paper inputting documents. Application materials, passports, and visas may contain social security number, date and place of birth, full name, physical characteristics, and other personally identifying information. Electronic tracking and work management files may contain such information as full name, date of birth, passport number, bureau of passport holder, date of issuance, expiration date, active or inactive status, and notations about the last office action taken regarding the passport or visa.

Safeguards:

Physical security: Access to records covered by the system will be permitted only to authorized personnel in accordance with requirements found in the Departmental Privacy Act regulations (43 CFR 2.51). Paper records are stored in locked, fire-proof file cabinets or in safes located within locked offices of the Department. Electronic files are locally stored internally in the secure, locked office space as well. Access to the Departmental buildings where these records are maintained is controlled by 24 hour guards and badges, and is limited to authorized personnel.

Technical security: The electronic files are maintained with safeguards meeting the requirements of 43 CFR 2.51 for automated records, which conform to Office of Management and Budget, National Institute of Standards and Technology, and Departmental guidelines reflecting the implementation of the Federal Information Security Management Act. The electronic data are protected through user identification, passwords, database permissions, encryption at rest where available, and software controls. An audit trail is maintained and reviewed periodically to identify unauthorized access.

Administrative security: Before personnel are permitted access to these records, they have been screened by background checks, and they work under supervision of the respective system managers who are Directors of their respective Branch or Office. All personnel are required to receive training in Privacy and in Information Technology Security Awareness before beginning employment, and annually thereafter. Additionally, they have signed rules of behavior before accessing Departmental computer systems.

System Managers and Address:

The three system managers are as follows:

(1) Chief, Security Services Branch, 1849 C Street, NW., Washington DC 20240;

(2) Director, Bureau of Reclamation, Native American and International Affairs Office, 1849 C Street, NW., MS-7069-MIB, 96-43100, Washington, DC 20240;

(3) Director, International Programs Office, U.S. Geological Survey, 12201 Sunrise Valley Drive, MS-917, Reston, VA 20192.

[FR Doc. E9-16944 Filed 7-15-09; 8:45 am]

BILLING CODE 4310-RK-P